DEPARTMENT OF TRANSPORTATION

Federal Aviation Administration

14 CFR Part 39

[Docket No. 2000-NE-58-AD; Amendment 39-12239; AD 2001-10-13]

RIN 2120-AA64

Airworthiness Directives; Britax Sell Gmbh & Co. OHG Water Boilers, Coffee Makers, and Beverage Makers

AGENCY: Federal Aviation Administration, DOT.

ACTION: Final rule; request for comments.

SUMMARY: This amendment adopts a new airworthiness directive (AD) that is applicable to certain Britax Sell Gmbh & Co. OHG water boilers, coffee makers, and beverage makers. This action requires inspecting the wiring for indications of overheating or electrical arcing, and if indications are found, replacing the wiring. This amendment is prompted by reports of discolored and partially melted wires. The actions specified in this amendment are intended to prevent a fire in the galley compartment due to inadequate crimping of the electrical terminal contact pins, which could result in smoke in the cockpit and cabin and loss of control of the airplane.

DATES: Effective June 15, 2001. The incorporation by reference of certain publications listed in the regulations is approved by the Director of the Federal Register as of June 15, 2001.

Comments for inclusion in the Rules Docket must be received on or before July 30, 2001.

ADDRESSES: Submit comments in triplicate to the Federal Aviation Administration (FAA), New England Region, Office of the Regional Counsel, Attention: Rules Docket No. 2000-NE-58-AD, 12 New England Executive Park, Burlington, MA 01803-5299. Comments may also be sent via the Internet using the following address: “9-ane-adcomment@faa.gov.” Comments sent via the Internet must contain the docket number in the subject line.

The service information referenced in this AD may be obtained from Britax Sell GmbH & Co. OHG, MPL Mr. H.D. Poggensee, P.O. Box 1161, 35721 Herborn Germany, telephone international code 49-2772-707-0; fax international code 49-2772-707-141. This information may be examined at the FAA, New England Region, Office of the Regional Counsel, 12 New England Executive Park, Burlington, MA; or at the Office of the Federal Register, 800 North Capitol Street, NW., suite 700, Washington, DC.

FOR FURTHER INFORMATION CONTACT: Terry Fahr, Aerospace Engineer, Boston Aircraft Certification Office, FAA, Engine and Propeller Directorate, 12 New England Executive Park, Burlington, MA 01803-5299; telephone 781-238-7155; fax 781-238-7199.

SUPPLEMENTARY INFORMATION: The Luftfahrt-Bundesamt (LBA), which is the airworthiness authority for Germany, recently notified the FAA that an unsafe condition may exist on certain Britax Sell Gmbh & Co. OHG coffee makers, water boilers, and beverage makers. The LBA advises that there have been 10 reports of discolored wires and two reports of partially melted wires. The crimping of the presently installed Faston Terminals part number (P/N) 3-520133-2 with blue nylon insulation may be insufficient for carrying the full electrical current flowing through that terminal. The insufficient crimping could cause an increased contact resistance in the terminal. The increased contact resistance could result in an increased terminal temperature, discoloration of the insulation, and a melting of the terminal insulation.

Manufacturer's Service Information

Britax Sell Gmbh & Co. OHG has issued service bulletins (SB's) E33-4-007SB, Revision 2, dated December 4, 2000; E33-4-009SB, dated October 24, 2000; E33-4-010SB, dated October 20, 2000; E33-4-011SB, dated October 21, 2000; E33-4-012SB, dated October 24, 2000; E33-4-013SB, dated October 23, 2000; E33-4-014SB, Revision 1, dated November 6, 2000; E33-4-015SB, dated October 23, 2000; and E33-4-016SB, Revision 1, dated November 6, 2000; that specify procedures for replacing the wires on temperature limiters installed on certain P/N water boilers, coffee makers, and beverage makers. The LBA classified these service bulletins as mandatory and issued AD 2000-379 in order to assure the airworthiness of these products in Germany.

Bilateral Airworthiness Agreement

These appliances are manufactured in Germany and are used on airplanes that are type certificated for operation in the United States under the provisions of § 21.29 of the Federal Aviation Regulations (14 CFR 21.29) and the applicable bilateral airworthiness agreement. Pursuant to this bilateral airworthiness agreement, the LBA has kept the FAA informed of the situation described above. The FAA has examined the findings of the LBA, reviewed all available information, and determined that AD action is necessary for products of this type design that are used on airplanes certificated for operation in the United States.

Requirements of This AD

Since an unsafe condition has been identified that is likely to exist or develop on other appliances that are used on aircraft registered in the United States, this AD is being issued to prevent a fire in the galley compartment due to inadequate crimping of the electrical terminal contact pins, which could result in smoke in the cockpit and cabin and loss of control of the airplane. This AD requires an inspection for discoloration or melting of the wires, and if discolored or melted, the replacement of wires on the temperature limiters installed on certain water boilers, coffee makers, and beverage makers with P/N's that are listed in this AD. The replacements must be done in accordance with the service bulletins described previously.

Immediate Adoption

Since a situation exists that requires the immediate adoption of this regulation, it is found that notice and opportunity for prior public comment hereon are impracticable, and that good cause exists for making this amendment effective in less than 30 days.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this notice must submit a self-addressed, stamped postcard on which the following statement is made: “Comments to Docket Number 2000-NE-58-AD.” The postcard will be date stamped and returned to the commenter.

Regulatory Impact

This final rule does not have federalism implications, as defined in Executive Order 13132, because it would not have a substantial direct effect on the States, on the relationship between the national government and the States, or on the distribution of power and responsibilities among the various levels of government. Accordingly, the FAA has not consulted with state authorities prior to publication of this final rule.

The FAA has determined that this regulation is an emergency regulation that must be issued immediately to correct an unsafe condition in aircraft, and is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-10-13 Britax Sell Gmbh & Co. OHG: Amendment 39-12239. Docket 2000-NE-58-AD.

Applicability

This airworthiness directive (AD) is applicable to certain Britax Sell Gmbh & Co. OHG water boilers, coffee makers, and beverage makers, listed by part number (P/N) and serial number (SN) in Table 1 of this AD. These products are installed on but not limited to Airbus Industrie A319, A320, A330, AVRO RJ, Boeing Company 717, 737, 747, 757, 767, 777, and Bombardier RJ airplanes.

Note 1: This AD applies to each appliance identified in the preceding applicability provision, regardless of whether it has been modified, altered, or repaired in the area subject to the requirements of this AD. For appliances that have been modified, altered, or repaired so that the performance of the requirements of this AD is affected, the owner/operator must request approval for an alternative method of compliance in accordance with paragraph (c) of this AD. The request should include an assessment of the effect of the modification, alteration, or repair on the unsafe condition addressed by this AD; and, if the unsafe condition has not been eliminated, the request should include specific proposed actions to address it.

Compliance

Compliance with this AD is required within 50 flight hours after the effective date of this AD, unless already done.

To prevent a fire in the galley compartment due to inadequate crimping of the electrical terminal contact pins, which could result in smoke in the cockpit and cabin and loss of control of the airplane, do the following:

(a) Inspect wire terminals (faston type) on temperature limiters of remote water boilers, coffee makers, water boilers, and beverage makers that are listed by P/N in Table 1 of this AD for discoloration or melting of wire terminal insulation.

(b) If terminal insulation is discolored or melted, replace the entire wire in accordance with the applicable service bulletin (SB) specified for the appliance in Table 1 as follows:

Table 1.—Appliance P/N and Applicable SB for Wire Replacement
Appliance | Appliance P/N | SN | Tank assembly P/N | Replace wiring in accordance with SB
(1) Remote Water Boiler | 62204-001-029, 62204-001-031, 62204-001-037, 62204-001-043, 62204-001-047, and 62204-001-049 | 00-04-0001 thru 00-07-0033 and 00-07-0038 | 62203-001-005 and 62203-001-007 | E33-4-007SB, Revision 2, dated December 4, 2000, Accomplishment Instructions 3.A. through 3.O.
(2) Coffee Maker | (i) 64755 | 00-05-0001 and 00-09-0003 | 64761-025-001 | E33-4-009SB, dated October 24, 2000, Accomplish Instructions 3.A. through 3.J.
| (ii) 64753-001-003 | 00-01-0001 thru 00-08-0060, 00-07-0065 thru 00-09-0079 | 64761-025-001 | E33-4-011SB, dated October 21, 2000, Accomplish Instructions 3.A. through 3.J.
| (iii) 64753-201-003 | 00-05-0001 and 00-05-0002 | 64761-025-001 | E33-4-012SB, dated October 24, 2000, Accomplish Instructions 3.A through 3.J.
| (iv) 64769-001-005 and 64769-001-007 | 00-04-0001 thru 00-09-0033 | 64769-025-003 | E33-4-013SB, dated October 23, 2000, Accomplish Instructions 3.A. through 3.Q.
| (v) 64790-1 | 00-08-0001 thru 00-08-0003 | 64790-331-001 | E33-4-015SB, dated October 23, 2000, Accomplish instructions 3.A. through 3.L.
(3) Water Boiler | 62197-001-001 | 00-04-0001 thru 00-05-0023, 00-08-0026, thru 00-09-0052 and 00-09-0055 | 62197-015-001 | E33-4-010SB, dated October 20, 2000, Accomplish Instructions 3.A. through 3.S.
(4) Beverage Maker | (i) 64771-001-001 | 00-04-0013 thru 00-04-0039, 00-04-0043 thru 00-08-0302, 00-08-0307 thru 00-08-0346, and 00-09-0368 thru 00-09-0371 | 64771-025-005 | E33-4-014SB, Revision 1, dated November 6, 2000, Accomplishment Instructions 3.A. through 3.J.
| (ii) 64771-001-003 | 00-02-0001 thru 00-03-0005, 00-04-0007 thru 00-04-0012, 00-04-0042 thru 00-04-0042, 00-04-0053 thru 00-04-0057, 00-05-0087 thru 00-05-0094, 00-07-0135 thru 00-07-0138, 00-08-0303 thru 00-08-306, 00-08-0347 thru 00-08-0354, and 00-09-0365 thru 00-09-0367 | 64771-025-001 | E33-4-016SB, Revision 1, dated November 6, 2000, Accomplishment Instructions 3.A. through 3.J.

Alternative Methods of Compliance

(c) An alternative method of compliance or adjustment of the compliance time that provides an acceptable level of safety may be used if approved by the Manager, Boston Aircraft Certification Office (ACO). Operators shall submit their requests through an appropriate FAA Principal Maintenance Inspector, who may add comments and then send it to the Manager, Boston ACO.

Note 2: Information concerning the existence of approved alternative methods of compliance with this airworthiness directive, if any, may be obtained from the Boston ACO.

Special Flight Permits

(d) Special flight permits may be issued in accordance with §§ 21.197 and 21.199 of the Federal Aviation Regulations (14 CFR 21.197 and 21.199) to operate the aircraft to a location where the requirements of this AD can be accomplished.

Incorporation by Reference Material

(e) The actions required by this AD shall be performed in accordance with the following Britax Sell Gmbh & Co. OHG service bulletins, as applicable:

Document No. | Pages | Revision | Date
E33-4-007SB; Total pages: 7 | All | Revision 2 | December 4, 2000.
E33-4-009SB; Total pages: 5 | All | Original | October 24, 2000.
E33-4-010SB; Total pages: 5 | All | Original | October 20, 2000.
E33-4-011SB; Total pages: 5 | All | Original | October 21, 2000.
E33-4-012SB; Total pages: 5 | All | Original | October 24, 2000.
E33-4-013SB; Total pages: 5 | All | Original | October 23, 2000.
E33-4-014SB; Total pages: 5 | All | Revision 1 | November 6, 2000.
E33-4-015SB; Total pages: 5 | All | Original | October 23, 2000.
E33-4-016SB; Total pages: 5 | All | Revision 1 | November 6, 2000.

This incorporation by reference was approved by the Director of the Federal Register in accordance with 5 U.S.C. 552(a) and 1 CFR part 51. Copies may be obtained from Britax Sell GmbH & Co. OHG, MPL Mr. H.D. Poggensee, P.O. Box 1161, 35721 Herborn Germany, telephone international code 49-2772-707-0; fax international code 49-2772-707-141. Copies may be inspected at the FAA, New England Region, Office of the Regional Counsel, 12 New England Executive Park, Burlington, MA; or at the Office of the Federal Register, 800 North Capitol Street, NW, suite 700, Washington, DC.

Note 3: The subject of this AD is addressed in Luftfahrt-Bundesamt airworthiness directive 2000-379, dated November 13, 2000.

Effective Date of This AD

(f) This amendment becomes effective on June 15, 2001.

Issued in Burlington, Massachusetts, on May 17, 2001.
Diane S. Romanosky,
Acting Manager, Engine and Propeller Directorate, Aircraft Certification Service.

[FR Doc. 01-13182 Filed 5-30-01; 8:45 am]

BILLING CODE 4910-13-P